ENVIRONMENTAL PROTECTION AGENCY

40 CFR Part 52

[EPA-R05-OAR-2025-0013; FRL-13051-02-R5]

Air Plan Approval; Ohio; Emergency Episodes and Ambient Air Quality Standards

AGENCY: Environmental Protection Agency (EPA).

ACTION: Direct final rule.

SUMMARY: The Environmental Protection Agency (EPA) is approving amendments to Ohio Administrative Code (OAC) Chapter 3745-25, Emergency Episodes and Ambient Air Quality Standards, into Ohio's State Implementation Plan (SIP). The amendments to the rule include minor style changes, correct typographical errors, and update publication and referenced material titles, effective dates, and addresses.

DATES: This direct final rule will be effective January 26, 2026, unless EPA receives adverse comments by December 26, 2025. If adverse comments are received, EPA will publish a timely withdrawal of the direct final rule in the Federal Register informing the public that the rule will not take effect.

ADDRESSES: Submit your comments, identified by Docket ID No. EPA-R05-OAR-2025-0013 at https://www.regulations.gov or via email to Langman.Michael@epa.gov. For comments submitted at Regulations.gov, follow the online instructions for submitting comments. Once submitted, comments cannot be edited or removed from the docket. EPA may publish any comment received to its public docket. Do not submit electronically any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://wwww.epa.gov/dockets/commenting-epa-dockets.

FOR FURTHER INFORMATION CONTACT: Tyler Salamasick, Air and Radiation Division (AR-18J), Environmental Protection Agency, Region 5, 77 West Jackson Boulevard, Chicago, Illinois 60604, (312) 886-6206, Salamasick.Tyler@epa.gov. The EPA Region 5 office is open from 8:30 a.m. to 4:30 p.m., Monday through Friday, excluding Federal holidays.

SUPPLEMENTARY INFORMATION: Throughout this document whenever “we,” “us,” or “our” is used, we mean EPA.

I. What is the background for these actions?

On January 7, 2025, Ohio submitted amendments to OAC 3745-25 as a revision to Ohio's SIP. The amendments to the rules make minor style changes, correct typographical errors, and update publication and referenced material titles, effective dates and addresses. These changes were made to rules 3745-25-01, 3745-25-02, 3745-25-03, 3745-25-04 and 3745-25-05.

On June 16, 2025, Ohio EPA adopted additional amendments to OAC 3745-25. The amendment included an appendix that was unintentionally omitted from the January 7, 2025, submittal. Ohio submitted the request to EPA to include the appendix to OAC 3745-25-04 on July 15, 2025.

On September 2, 2025, Ohio requested that EPA not act on paragraph (A)(4) of OAC 3745-25-02. At Ohio EPA's request, EPA will not take action on paragraph (A)(4) of OAC 3745-25-02.

Ohio's amended rules do not revise emission limits, impact emission standards, or change the scope or intent of each amended rule. Ohio made minor verb tense and rule formatting changes to be consistent with State style and formatting guidelines. Ohio also revised publication and referenced material titles, dates, and websites to refer to more recent versions of each referenced publication. EPA finds that these rule changes are approvable since the changes are minor in nature and do not affect the scope or intent of the rules.

II. What action is EPA taking?

EPA is approving Ohio's amendments to OAC Chapter 3745-25 into Ohio's SIP. EPA is approving amended rules 3745-25-01, 3745-25-02, 3745-25-03, 3745-25-04 and 3745-25-05 submitted to EPA on January 7, 2025, along with the supplemental submissions submitted on July 15, 2025, and September 2, 2025. EPA is not acting on paragraph (A)(4) of OAC 3745-25-02.

We are publishing this action without prior proposal because we view this as a noncontroversial amendment and anticipate no adverse comments. However, in the proposed rules section of this Federal Register publication, we are publishing a separate document that will serve as the proposal to approve the State plan if relevant adverse written comments are filed. This rule will be effective January 26, 2026 without further notice unless we receive relevant adverse written comments by December 26, 2025. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective January 26, 2026.

III. Incorporation by Reference

In this rule, EPA is finalizing regulatory text that includes incorporation by reference. In accordance with requirements of 1 CFR 51.5, EPA is finalizing the incorporation by reference of the Ohio Regulations described in section II of this preamble and set forth in the amendments to 40 CFR part 52 below. EPA has made, and will continue to make, these documents generally available through www.regulations.gov and at the EPA Region 5 Office (please contact the person identified in the FOR FURTHER INFORMATION CONTACT section of this preamble for more information). Therefore, these materials have been approved by EPA for inclusion in the SIP, have been incorporated by reference by EPA into that plan, are fully federally enforceable under sections 110 and 113 of the Clean Air Act as of the effective date of the final rulemaking of EPA's approval, and will be incorporated by reference in the next update to the SIP compilation.¹

¹ 62 FR 27968 (May 22, 1997).

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by January 26, 2026. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register. rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon oxides, Incorporation by reference, Intergovernmental relations, Lead, Nitrogen oxides, Ozone, Particulate matter, Reporting and recordkeeping requirements, Sulfur oxides, Volatile organic compounds.

Dated: November 14, 2025.
Cheryl Newton,
Acting Regional Administrator, Region 5.

For the reasons stated in the preamble, 40 CFR part 52 is amended as follows:

PART 52—APPROVAL AND PROMULGATION OF IMPLEMENTATION PLANS

1. The authority citation for part 52 continues to read as follows:

Authority: 42 U.S.C. 7401 et seq.

2. In § 52.1870, the table in paragraph (c) is amended by revising the entries under the section entitled “Chapter 3745-25 Emergency Episode Standards” to read as follows:

§ 52.1870 Identification of plan.

* * * * *

(c) * * *

EPA-Approved Ohio Regulations
Ohio citation | Title/subject | Ohio effective date | EPA approval date | Notes
* * * * * * *
Chapter 3745-25 Emergency Episode Standards
3745-25-01 | Definitions and Reference to Materials | 12/19/2024 | 11/26/2025, 90 FR [Insert Federal Register page where the document begins] |
3745-25-02 | Ambient Air Quality Standards | 12/19/2024 | 11/26/2025, 90 FR [Insert Federal Register page where the document begins] | Except (A)(4).
3745-25-03 | Air Pollution Emergencies and Episode Criteria | 12/19/2024 | 11/26/2025, 90 FR [Insert Federal Register page where the document begins] |
3745-25-04 | Air Pollution Emergency Emission Control Action Programs | 7/7/2025 | 11/26/2025, 90 FR [Insert Federal Register page where the document begins] |
3745-25-05 | Air Pollution Emergency Orders | 12/19/2024 | 11/26/2025, 90 FR [Insert Federal Register page where the document begins] |
* * * * * * *

* * * * *

[FR Doc. 2025-21322 Filed 11-25-25; 8:45 am]

BILLING CODE 6560-50-P